NUCLEAR REGULATORY COMMISSION

[Docket No. 50-131; NRC-2016-0154]

U.S. Department of Veterans Affairs; Alan J. Blotcky Reactor Facility

AGENCY: Nuclear Regulatory Commission.

ACTION: License termination; issuance.

SUMMARY: The U.S. Nuclear Regulatory Commission (NRC) is providing notice of the termination of Facility Operating License No. R-57 for the Alan J. Blotcky Reactor Facility (AJBRF). The NRC has terminated the license of the decommissioned AJBRF at the U.S. Department of Veterans Affairs (VA or the licensee) facility in Omaha, Nebraska, and has released the site for unrestricted use.

DATES: Notice of termination of Facility Operating License No. R-57 given on August 1, 2016.

ADDRESSES: Please refer to Docket ID NRC-2016-0154 when contacting the NRC about the availability of information regarding this document. You may obtain publicly-available information related to this document using any of the following methods:

• Federal Rulemaking Web site: Go to http://www.regulations.gov and search for Docket ID NRC-2016-0154. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Kim Conway, Office of Nuclear Material Safety and Safeguards, U.S. Nuclear Regulatory Commission, Washington DC 20555-0001; telephone: 301-415-1335; email: Kimberly.Conway@nrc.gov.

SUPPLEMENTARY INFORMATION: The AJBRF in Omaha, Nebraska, was operated by the Omaha Veterans Administration Medical Center (VAMC) to support nuclear medicine and research programs conducted at the Omaha VAMC. Between 1959 and 1965, the facility was funded as a national laboratory and employed approximately 30 people. The AJBRF was primarily used for neutron activation of biological samples, but was also used for training Fort Calhoun Station nuclear power reactor operators.

By letters dated September 21, 2004, August 15, 2011, March 8, 2012, May 21, 2014, and November 12, 2014, (ADAMS Accession Nos. ML042740512, ML11255A334, ML12075A202, ML14150A404 (Package), ML14335A597, respectively), the licensee submitted to the NRC an application for amendment of Facility Operating License No. R-57 for AJBRF. The application requested NRC approval of the AJBRF decommissioning plan (DP). The NRC approved the revised VA DP by Amendment No. 12 to License R-57, dated January 8, 2015 (ADAMS Package Accession No. ML14318A624).

As required by the approved DP, the VA submitted a Final Status Survey (FSS) Plan, dated October 15, 2015 (ADAMS Accession No. ML15299A385), as a supplement to the DP. By letter dated November 4, 2015 (ADAMS Accession No. ML15302A508), the NRC reviewed the FSS Plan and determined that it was consistent with the guidance in NUREG-1757, “Consolidated Decommissioning Guidance” (ADAMS Accession No. ML063000243); and NUREG-1575, “Multi-Agency Radiation Survey and Site Investigation Manual” (ADAMS Accession No. ML082470583).

On February 29, 2016, the VA submitted its FSS Report (ADAMS Accession No. ML16068A254) and requested termination of the AJBRF license. The report demonstrates that the criteria for termination, set forth in its DP and FSS Plan, have been satisfied. The FSS Report indicates that all individual radiological measurement determinations made throughout the facility for surface contamination (both total and removable) were found to be less than the criteria established in the DP. Similarly, all sample results were found to be less than the volumetric radionuclide concentration criteria established in the DP. Additionally, all the radioactive wastes have been removed from the facility, and documentation regarding its removal disposition is provided in the FSS Report. As such, the NRC staff determined that the survey results in the report comply with the criteria in the NRC-approved DP and the release criteria in subpart E of part 20 of title 10 of the Code of Federal Regulations (10 CFR).

On September 21-23, 2015 (ADAMS Accession No. ML15316A495), Region IV of the NRC conducted a routine safety inspection at the AJBRF. The inspection was an examination of the VA's licensed activities as they relate to radiation safety and to compliance with the Commission's regulations and the license conditions, including the DP and FSS Plan. The inspection consisted of observations by the inspectors, interviews with personnel, and a review of procedures and records. No health and safety concerns were identified during these inspections.

On December 8-9, 2015, Oak Ridge Associated Universities (ORAU) performed confirmatory surveys. The survey activities performed included cursory gamma scans, 100 percent of the facility floor, judgment scans of surfaces (based on unusual appearance, location relative to known contaminated areas, and high potential for residual radioactivity), direct measurements, and smear collection (wet and dry). The ORAU provided the results of the confirmatory surveys in a report dated February 24, 2016 (ADAMS Accession No. ML16173A165). The ORAU report showed that results of all samples were less than the volumetric radionuclide concentration criteria established in the DP.

Based on observations during NRC inspections, decommissioning activities have been carried out by the VA in accordance with the approved AJBRF DP. Additionally, NRC staff evaluated the VA's FSS Report and the results of the independent confirmatory survey conducted by ORAU. All FSS Report measurements were found to be less than the DP and FSS Plan criteria, and ORAU's analytical results from independent confirmatory surveys were consistent with the VA's FSS Report results. Therefore, the NRC staff has concluded that the VA AJBRF has completed decommissioning in accordance with the approved DP. The NRC staff evaluated the VA AJBRF FSS Report, DP, and associated documentation and determined that the facilities and site are suitable for unrestricted release in accordance with the criteria for license termination in 10 CFR part 20, subpart E. By letter dated July 22, 2016 (ADAMS Accession No. ML16173A093), the licensee was informed of the license termination.

Therefore, pursuant to 10 CFR 50.82(b)(6), Facility Operating License No. R-57 is terminated.

Dated at Rockville, Maryland, this 22nd day of July 2016.
For the Nuclear Regulatory Commission.
John R. Tappert,
Director, Division of Decommissioning, Uranium Recovery, and Waste Programs, Office of Nuclear Material Safety and Safeguards.

[FR Doc. 2016-18142 Filed 7-29-16; 8:45 am]

BILLING CODE 7590-01-P